SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer at the following addresses:

(OMB)

Office of Management and Budget, Attn: Desk Officer for SSA, New Executive Office Building, Room 10230, 725 17th St., NW., Washington, DC. 20503

(SSA)

Social Security Administration, DCFAM, Attn: Frederick W. Brickenkamp, 1-A-21 Operations Bldg., 6401 Security Blvd., Baltimore, MD 21235

I. The information collections listed below will be submitted to OMB within 60 days from the date of this notice. Therefore, your comments should be submitted to SSA within 60 days from the date of this publication. You can obtain copies of the collection instruments by calling the SSA Reports Clearance Officer at 410-965-4145, or by writing to him at the address listed above.

1. Contact with the Representative Payee and Contact with Beneficiary—0960-NEW. SSA will use the SSA-L4945, Contact with the Representative Payee, and SSA-L4947, Contact with Beneficiary, to inform respondents and conduct quality reviews of payments made under the titles II and XVI (Old-Age, Survivors and Disability Insurance/Supplemental Security Income) programs. Cases for the review will be selected randomly and the information solicited will be used for verification of payment data on record in the claims folder and SSA's Master Beneficiary Record. Form SSA-L4945 will be used to notify Representative Payees who have the responsibility of managing payments for an SSA Beneficiary that the case has been selected for the review process and to request the required information. Form SSA-L4947 will be used to notify beneficiaries that their case has been selected for the review process and request the needed information. Both letters contain information that must be verified and returned to SSA under the review process. The respondents are beneficiaries and representative payees for beneficiaries receiving title II and title XVI benefits.

Number of Respondents: 200.

Frequency of Response: 1.

Average Burden Per Response: 15 minutes.

Estimated Annual Burden: 50 hours.

2. RSI/DI Quality Review Case Analysis-Sampled Number Holder, Auxiliaries/Survivors-Parent, Stewardship AET Workbook—0960-0189. SSA uses the information collected on forms SSA-2930, 2931 and 2932 to establish a national payment accuracy rate for all cases in payment status; measure the accuracy rate for newly adjudicated claims for beneficiaries receiving old-age, survivors, or disability insurance; and to serve as a source of information regarding problem areas in the RSI/DI programs. Form SSA-4659 is used to evaluate and determine the effectiveness of the annual earnings test and to use the results in developing ongoing improvements in the process. The respondents are beneficiaries and representative payees for beneficiaries receiving old age, survivors, or disability insurance.

| Respondents | Frequency of response | Average burden per response | Estimated annual burden (hours)
SSA-2930 | 3,000 | 1 | 30 | 1,500
SSA-2931 | 1,500 | 1 | 30 | 750
SSA-2932 | 650 | 1 | 20 | 217
SSA-4659 | 325 | 1 | 10 | 54
Total Burden |  |  |  | 2,521

3. Request for Change in Time/Place of Disability Hearing—0960-0348. The information on Form SSA-769 is used by SSA and the State Disability Determination Services to provide claimants with a structured format to exercise their right to request a change in the time or place of a scheduled disability hearing. The information is be used as a basis for granting or denying requests for changes and for rescheduling hearings. The respondents are claimants who wish to request a change in the time or place of their disability hearing.

Number of Respondents: 7,483.

Frequency of Response: 1.

Average Burden Per Response: 8 minutes.

Estimated Annual Burden: 998 hours.

4. Request for Reconsideration—Disability Cessation—0960—0349. The information collected on form SSA-789 is used by SSA to schedule hearings, and to develop additional evidence for claimants who have received an initial or revised determination that a disability did not exist or has ceased. The collected information also indicates whether an interpreter is needed. The respondents are disability beneficiaries who file a claim for reconsideration.

Number of Respondents: 49,000.

Frequency of Response: 1.

Average Burden Per Response: 12 minutes.

Estimated Annual Burden: 9,800 hours.

5. Agency/Employer Government Pension Offset Questionnaire—0960-0470. The Information collected on Form SSA-L4163 will provide SSA with accurate information from the agency paying the pension, for purposes of applying the pension-offset provision. The form will only be used when (1) the claimant does not have the information and (2) the pension-paying agency has not cooperated with the claimant. The respondents are Federal, State, or local government agencies that have information needed by SSA to determine whether the Government Pension Offset provisions apply and the amount of offset.

Number of Respondents: 1,000.

Frequency of Response: 1.

Average Burden Per Response: 3 minutes.

Estimated Annual Burden: 50 hours.

6. Child-Care Dropout Questionnaire—0960-0474. The information collected on Form SSA-4162 is used by SSA to determine whether an individual qualifies for a child care exclusion in computing the individual's disability benefit amount. The respondents are applicants for disability benefits.

Number of Respondents: 2,000.

Frequency of Response: 1.

Average Burden Per Response: 5 minutes.

Estimated Annual Burden: 167 hours.

7. Authorization for the Social Security Administration to Obtain Account Records from a Financial Institution—0960-0293. Form SSA-4641-U2 provides financial institutions with the customer's authorization to disclose records, as required by Public Law 95-630. Responses to the questions are used, in part, to determine whether resource requirements are met in the Supplemental Security Income program. The respondents are financial institutions (banks, savings and loans, credit unions, etc.).

Number of Respondents: 500,000.

Frequency of Response: 1.

Average Burden Per Response: 6 minutes.

Estimated Annual Burden: 50,000 hours.

8. Request for Social Security Earnings Information—0960-0525. The Social Security Act provides that a wage earner, or someone authorized by a wage earner, may request Social Security earnings information from the Social Security Administration, using form SSA-7050. SSA uses the information collected on the form to verify that the requestor is authorized to access the earnings record and to produce the earnings statement. The respondents are wage earners and organizations and legal representatives authorized by the wage earner.

Number of Respondents: 61,494.

Frequency of Response: 1.

Average Burden Per Response: 11 minutes.

Estimated Annual Burden: 11,274 hours.

9. Statement of Household Expenses and Contributions—0960-0456. Eligibility for Supplemental Security Income (SSI) is based on need. A factor for determining need is whether an individual receives in-kind support and maintenance in the form of food and shelter provided by other persons. SSA collects information on form SSA-8011-F3 to determine the existence and amount of in-kind support and maintenance received by a claimant/beneficiary of SSI. SSA uses the information to determine eligibility and payment amount under this program. The respondents are members of SSI claimants'/beneficiaries' households.

Number of Respondents: 400,000.

Frequency of Response: 1.

Average Burden Per Response: 15 minutes.

Estimated Annual Burden: 100,000 hours.

10. Payment of Certain Travel Expenses—0960-0434. This regulation (20 C.F.R. 404.999(d) and 416.1499) provides for travel expense reimbursement by the State agency or Federal agency for claimants traveling to a consultative examination, or for claimants, their representative and unsubpoenaed witnesses traveling over 75 miles to appear at a disability hearing. State and Federal personnel review the listing and the receipts to verify the amount to be reimbursed to the claimant. The respondents are claimants for Title II/XVI benefits.

Number of Respondents: 50,000.

Frequency of Response: 1.

Average Burden Per Response: 10 minutes.

Estimated Annual Burden: 8,333 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Student's Statement Regarding Resumption of School Attendance—0960-0143. The information on Form SSA-1386 is used by SSA to verify full-time attendance at educational institutions and to determine eligibility for student benefits. The respondents are student beneficiaries currently receiving SSA benefits.

Number of Respondents: 133,000.

Frequency of Response: 1.

Average Burden Per Response: 6 minutes.

Estimated Annual Burden: 13,300 hours.

2. Subpoena—Disability Hearing—0960-0428. The information on Form SSA-1272-U4 is used by SSA to subpoena evidence or testimony needed at disability hearings. The respondents comprise officers from Federal and State DDSs.

Number of Respondents: 36.

Frequency of Response: 1.

Average Burden Per Response: 30 minutes.

Estimated Annual Burden: 18 hours.

3. Quiz Show—Internet Edition—0960-NEW.

Background

As stated in the 1997 Agency Strategic Plan, one of the SSA's five major goals is “To Strengthen Public Understanding of the Social Security Programs” so the public will understand what benefits are valuable to them personally. Accordingly, the public will be able to more effectively plan for retirement security. Under this goal, SSA established a strategic objective that, by 2005, 90% of the public will be knowledgeable about SSA programs. In establishing this goal SSA recognized the need to develop innovative methods to help educate and continually measure the public's knowledge of SSA programs.

The Collection—“Quiz Show”

SSA intends to implement an online interactive educational game entitled “Quiz Show—Internet Edition”. The purpose of Quiz Show is to help support the Agency's goal of increasing the public's understanding of Social Security programs.

Quiz Show will consist of 10 questions, which are based on 8 key messages about SSA programs that the Agency wants the public to understand. Participation in the online game will be strictly voluntary. Data collected through each Quiz Show question will measure the overall responses for the purpose of gauging the public's knowledge of each key Social Security message.

SSA will implement Quiz Show in stages, with the initial stage providing performance feedback to the user. However, eventually SSA will use Quiz Show to collect performance data and demographic data. SSA will not require users to provide demographic data to play the game. Rather, users would be asked to provide this data voluntarily. Questions related to demographics are for the sole purpose of identifying audiences to whom specific key messages should be targeted to increase their knowledge. Respondents to Quiz Show will be individuals who visit SSA's website, Social Security Online, and elect to play the online game.

Number of Respondents: 12,000.

Frequency of Response: 1.

Average Burden Per Response: 8 minutes.

Estimated Annual Burden: 1,600 hours.

4. Work History Report—0960-0578. The information collected on form SSA-3369 is needed to determine disability by the State DDSs. The information will be used to document an individual's past work history. The respondents are applicants for disability benefits.

Number of Respondents: 1,000,000.

Frequency of Response: 1.

Average Burden Per Response: 30 minutes.

Estimated Annual Burden: 500,000 hours.

5. Notification of Projected Completion Date—0960-0429. Form SSA-891 is used by SSA and State Disability Determination Services (DDS) to inform disability hearing units whenever a hearing case will not be completed and forwarded to the hearing unit as expected. This information is necessary to enable the hearing units to schedule hearings as promptly and efficiently as possible. The respondents are State DDS and SSA components that make disability determinations for the Agency.

Number of Respondents: 100.

Frequency of Response: 1.

Average Burden Per Response: 5 minutes.

Estimated Annual Burden: 8 hours.

6. Real Property Current Market Value Estimate—0960-0471. This form is used to obtain current market value estimates of real property owned by applicants for, or beneficiaries of, Supplemental Security Income (SSI) benefits (or a person whose resources are deemed to such an individual). The value of an individual's resources, including non-home real property, is one of the eligibility requirements for SSI benefits. The respondents are individuals with knowledge of local real property values.

Number of Respondents: 5,438.

Frequency of Response: 1.

Average Burden Per Response: 20 minutes.

Estimated Annual Burden: 1,813 hours.

7. Information about Joint Checking/Savings Account—0960-0461. Form SSA-2574 is used to collect information from the claimant and the other account holder(s) when a Supplemental Security Income (SSI) applicant/recipient objects to the assumption that he/she owns all or part of the funds in a joint account bearing his or her name. These statements of ownership are required to determine whether the account is a resource of the SSI claimant. The respondents are applicants for and recipients of SSI payments and individuals who are joint owners of financial accounts with SSI applicants.

Number of Respondents: 200,000.

Frequency of Response: 1.

Average Burden Per Response: 7 minutes.

Estimated Annual Burden: 23,333 hours.

8. Response to Notice of Revised Determination—0960-0347. Form SSA-765 is used by claimants to request a disability hearing and/or to submit additional evidence before a revised reconsideration determination is issued. The respondents are claimants who file for a disability hearing in response to a notice of revised determination for disability insurance and/or SSI under titles II and XVI.

Number of Respondents: 1,925.

Frequency of Response: 1.

Average Burden Per Response: 30 minutes.

Estimated Annual Burden: 963 hours.

9. Function Report, Child (Birth to 1st, Age 1 to 3rd, Age 3 to 6th, Age 6 to 12th, Age 12 to 18th Birthday)—0960-0542. State Agency adjudicative teams will use the information gathered on the appropriate version of these forms, in connection with other medical function evidence, to form a complete picture of the child's ability to function. This information assists with determining whether a child is disabled, or each case in which disability cannot be found on medical grounds alone. The respondents are applicants for Title XVI childhood disability benefits, and child caregivers.

Number of Respondents: 750,000.

Frequency of Response: 1.

Average Burden Per Response: 20 minutes.

Estimated Annual Burden: 250,000 hours.

10. Wage Reports and Pension Information—0960-0547. The information obtained through regulation at 20 CFR, section 422.122(b) is used by SSA to identify the requester of pension plan information and to confirm that the individual is entitled to the data we provide. The respondents are requesters of pension plan information.

Number of Respondents: 600.

Frequency of Response: 1.

Average Burden Per Response: 30 minutes.

Estimated Annual Burden: 300 hours.

11. Beneficiary Recontact Report—0960-0502. SSA uses the information collected on Form SSA-1588-OCR-SM to ensure that eligibility for benefits continues after entitlement. SSA asks mothers/fathers information about their marital status and children in-care to detect overpayments and avoid continuing payment to those no longer entitled. The respondents are recipients of survivor mother/father Social Security Benefits.

Number of Respondents: 133,400.

Frequency of Response: 1.

Average Burden Per Response: 5 minutes.

Estimated Annual Burden: 11,117 hours.

12. Waiver of Your Right to Personal Appearance before an Administrative Law Judge—0960-0284. Each claimant has a statutory right to appear in person (or through a representative) and present evidence about his/her claim at a hearing before an Administrative Law Judge (ALJ). If a claimant wishes to waive his/her statutory right to appear before an ALJ, he/she must complete a written request. The claimant may use form HA-4608 for this request. The information collected is used to document an individual's claim to show that an oral hearing is not preferred in the appellate process. The respondents are applicants for Social Security and SSI benefits who request a hearing.

Number of Respondents: 12,000.

Frequency of Response: 1.

Average Burden Per Response: 2 minutes.

Estimated Annual Burden: 400 hours.

13. Function Report—Third Party, SSA-3380—0960-NEW. The Social Security Act provides that claimants must furnish medical and other evidence to prove they are disabled. The Social Security Act also gives the Commissioner authority to make rules and regulations on the nature and extent of evidence required as well as the methods of obtaining evidence. The information collected from third parties on the form SSA-3380 is needed for the determination of disability under Title II and/or Title XVI (SSI). The form records information about the disability applicant's illnesses, injuries, conditions, impairment-related limitations and ability to function. The respondents are individuals who know about the disability applicant's impairment, limitations and ability to function.

Number of Respondents: 1,500,000.

Frequency of Response: 1.

Average Burden Per Response: 30 minutes.

Estimated Annual Burden: 750,000 hours.

14. Disability Hearing Officer's Decision—0960-0441. The Social Security Act requires that SSA provide an evidentiary hearing at the reconsideration level of appeal for claimants who have received an initial or revised determination that a disability did not exist or has ceased. Based on the hearing, the disability hearing officer (DHO) completes an SSA-1207 and applicable supplementary forms (which apply to the type of claim involved). The DHO uses the information in documenting and preparing the disability decision. The form aids the DHO in addressing the crucial elements of the case in a sequential and logical fashion. The respondents are DHOs in the State Disability Determination Services (DDS).

Number of Respondents: 100,000.

Frequency of Response: 1.

Average Burden Per Response: 45 minutes.

Estimated Annual Burden: 75,000 hours.

15. Medical History and Disability Report, Disabled Child—0960-0577. The Social Security Act requires claimants to furnish medical and other evidence to prove they are disabled. The form SSA-3820 is used to obtain various types of information about a child's condition, his/her treating sources and/or other medical sources of evidence. The information collected on the SSA-3820 is needed for the determination of disability by the State DDSs. The respondents are applicants for Title XVI (SSI) child disability benefits.

Number of Respondents: 523,000.

Frequency of Response: 1.

Average Burden Per Response: 40 minutes.

Estimated Annual Burden: 348,667 hours.

16. Disability Report—Adult—0960-0579. The Social Security Act requires claimants to furnish medical and other evidence to prove they are disabled. Applicants for disability benefits will complete form SSA-3368. The information will be used, in conjunction with other evidence, by State DDSs to develop medical evidence, to assess the alleged disability, and to make a disability determination. The respondents are applicants for Title II and Title XVI (SSI) disability benefits.

Number of Respondents: 2,116,667.

Frequency of Response: 1.

Average Burden Per Response: 60 minutes.

Estimated annual Burden: 2,116,667 hours.

Dated: May 24, 2001.
Frederick W. Brickenkamp,
Reports Clearance Officer.

[FR Doc. 01-13623 Filed 5-31-01; 8:45 am]

BILLING CODE 4191-02-U